DEPARTMENT OF DEFENSE

Department of the Army

48 CFR Parts 5125 and 5152

Contractor Personnel Deployment

AGENCY: Department of the Army, DoD.

ACTION: Final Rule.

SUMMARY: This action removes regulations pertaining to the deployment of contractor personnel in support of military operations. The regulations are superseded by a higher regulation, Defense Federal Acquisition Regulation Supplement (DFARS) Subpart 225.74, Defense Contractors Outside the United States.

DATES: Effective Date: Effective October 12, 2006.

FOR FURTHER INFORMATION CONTACT: Mr. Steve Jaren, (703) 604-7105.

SUPPLEMENTARY INFORMATION:

A. Background

In the November 28, 2003 issue of the Federal Register (68 FR 66738 and 68 FR 66740), the Department of the Army issued two interim final rules to add 48 CFR part 5125, section 5125.74-9000 and amend 48 CFR part 5152. Subsequent amendments to the DFARS, on May 5, 2005 (70 FR 23790) and June 16, 2006 (71 FR 34826), added DoD policy addressing situations that require contractor personnel to provide in-theater support to United States military forces engaged in contingency, humanitarian or peacekeeping, or certain other operations outside the United States, and incorporated significant terminology from the Army Federal Acquisition Regulation Supplement (AFARS), rendering the regulations at 48 CFR part 5125 and 48 CFR 5152.225-74-9000 obsolete.

B. Regulatory Flexibility Act

These rules will not have a significant economic impact on a substantial number of small entities within the meaning of the Regulatory Flexibility Act, 5 U.S.C. 601, et seq., because the rules add no new requirements for contractors. These rules remove AFARS text that has become unnecessary as a result of policy that was added to the DFARS.

C. Paperwork Reduction Act

The Paperwork Reduction Act does not apply because the rules do not impose any information collection requirements that require the approval of the Office of Management and Budget under 44 U.S.C. 3501, et seq.

List of Subjects in 48 CFR Parts 5125 and 5152

Government contracts, Government procurement.

Accordingly, for reasons stated in the preamble, under the authority of 5 U.S.C. 301, 10 U.S.C. 2202, DoD Directive 5000.35, FAR 1.301, and DoD FAR Supplement 201.3, 48 CFR part 5125 is removed.

PART 5152—SOLICITATIONS PROVISIONS AND CONTRACT CLAUSES

1. The authority citation for part 5152 continues to read as follows:

Authority: 5 U.S.C. 301, 10 U.S.C. 2202, DoD Directive 5000.35, and DoD FAR Supplement 201.301.

5152.225-74-9000 [Removed]

2. Section 5152.225-74-9000 is removed.

[FR Doc. 06-8563 Filed 10-11-06; 8:45 am]

BILLING CODE 3710-08-M